DEPARTMENT OF AGRICULTURE

Animal and Plant Health Inspection Service

[Docket No. APHIS-2013-0007]

Notice of Affirmation of Addition of a Treatment Schedule for Methyl Bromide Fumigation of Blueberries

AGENCY: Animal and Plant Health Inspection Service, USDA.

ACTION: Notice.

SUMMARY: We are affirming our earlier determination that it was necessary to immediately add to the Plant Protection and Quarantine Treatment Manual a treatment schedule for methyl bromide fumigation of blueberries for Mediterranean fruit fly and South American fruit fly. In a previous notice, we made available to the public for review and comment a treatment evaluation document that described the new treatment schedule and explained why we have determined that it is effective at neutralizing these fruit flies.

DATES: Effective Date: Effective on November 13, 2013, we are affirming the addition to the Plant Protection and Quarantine Treatment Manual of the treatment described in the notice published at 78 FR 36507-36508 on June 18, 2013.

FOR FURTHER INFORMATION CONTACT: Dr. Inder P.S. Gadh, Senior Risk Manager-Treatments, PPQ, APHIS, 4700 River Road Unit 133, Riverdale, MD 20737; (301) 851-2018.

SUPPLEMENTARY INFORMATION: The regulations in 7 CFR chapter III are intended, among other things, to prevent the introduction or dissemination of plant pests and noxious weeds into or within the United States. Under those regulations, certain plants, fruits, vegetables, and other articles must be treated before they may be moved into the United States or interstate. The phytosanitary treatments regulations in part 305 of 7 CFR chapter III set out standards for treatments required in parts 301, 318, and 319 of 7 CFR chapter III for fruits, vegetables, and other articles.

In § 305.2, paragraph (b) states that approved treatment schedules are set out in the Plant Protection and Quarantine (PPQ) Treatment Manual.¹ Section 305.3 sets out a process for adding, revising, or removing treatment schedules in the PPQ Treatment Manual. In that section, paragraph (b) sets out the process for adding, revising, or removing treatment schedules when there is an immediate need to make a change. The circumstances in which an immediate need exists are described in § 305.3(b)(1). They are:

¹ The Treatment Manual is available on the Internet at http://www.aphis.usda.gov/import_export/plants/manuals/index.shtml or by contacting the Animal and Plant Health Inspection Service, Plant Protection and Quarantine, Manuals Unit, 92 Thomas Johnson Drive, Suite 200, Frederick, MD 21702.

• PPQ has determined that an approved treatment schedule is ineffective at neutralizing the targeted plant pest(s).

• PPQ has determined that, in order to neutralize the targeted plant pest(s), the treatment schedule must be administered using a different process than was previously used.

• PPQ has determined that a new treatment schedule is effective, based on efficacy data, and that ongoing trade in a commodity or commodities may be adversely impacted unless the new treatment schedule is approved for use.

• The use of a treatment schedule is no longer authorized by the U.S. Environmental Protection Agency or by any other Federal entity.

In accordance with § 305.3(b), we published a notice ² in the Federal Register on June 18, 2013 (78 FR 36507-36508, Docket No. APHIS-2013-0007), announcing our determination that a new methyl bromide treatment schedule to mitigate risk from two fruit fly species, Ceratitis capitata (Mediterranean fruit fly) and Anastrepha fraterculus (South American fruit fly) is effective, based on evidence presented in a treatment evaluation document (TED) we made available with the notice. We also determined that the ongoing trade of blueberries would be adversely impacted unless the new treatment schedule is approved for use. The treatment was added to the PPQ Treatment Manual, but was subject to change or removal based on public comment.

² To view the notice and the treatment evaluation document, go to http://www.regulations.gov/#!docketDetail;D=APHIS-2013-0007.

We solicited comments on the notice for 60 days ending August 19, 2013. We received no comments by that date. Therefore, in accordance with the regulations in § 305.3(b)(3), we are affirming our addition of a methyl bromide treatment schedule to mitigate risk from C. capitata and A. fraterculus, as described in the TED made available with the previous notice. The treatment schedule is numbered T101-i-1-2. The treatment schedule will be listed in the PPQ Treatment Manual, which is available as described in footnote 1 of this document.

Authority: 7 U.S.C. 7701-7772 and 7781-7786; 21 U.S.C. 136 and 136a; 7 CFR 2.22, 2.80, and 371.3.

Done in Washington, DC, this 6th day of November 2013.
Kevin Shea,
Administrator, Animal and Plant Health Inspection Service.

[FR Doc. 2013-27134 Filed 11-12-13; 8:45 am]

BILLING CODE 3410-34-P